DEPARTMENT OF HEALTH AND HUMAN SERVICES

Announcement of Re-Establishment of the Physical Activity Guidelines Advisory Committee and the Secretary's Advisory Committee on National Health Promotion and Disease Prevention Objectives

AGENCY: Office of Disease Prevention and Health Promotion, Office of the Assistant Secretary for Health, Office of the Secretary, U.S. Department of Health and Human Services.

ACTION: Notice.

Authority: Re-establishment of the Physical Activity Guidelines Advisory Committee and the Secretary's Advisory Committee on National Health Promotion and Disease Prevention Objectives is authorized under 42 U.S.C. 217a, Section 222 of the Public Health Service Act, as amended. The Committees will be governed by provisions of the Federal Advisory Committee Act, Public Law 92-463, as amended (5 U.S.C. App.), which sets forth standards for the formation and use of advisory committees.

SUMMARY: The U.S. Department of Health and Human Services (HHS) announces re-establishment of the Physical Activity Guidelines Advisory Committee and the Secretary's Advisory Committee on National Health Promotion and Disease Prevention Objectives. The new titles for the Committees are the 2018 Physical Activity Guidelines Advisory Committee and the Secretary's Advisory Committee on National Health Promotion and Disease Prevention Objectives for 2030, respectively. The 2018 Physical Activity Guidelines Advisory Committee and the Secretary's Advisory Committee on National Health Promotion and Disease Prevention Objectives have been established as discretionary federal advisory committees. Both committees have been established to perform single, time-limited tasks that will assist with furthering the mission of the HHS.

FOR FURTHER INFORMATION CONTACT: 2018 Physical Activity Guidelines Advisory Committee: Richard D. Olson, MD, MPH; Designated Federal Officer or LT Katrina L. Piercy, Ph.D., RD, ACSM-CEP, Alternate DFO; Office of Disease Prevention and Health Promotion, OASH/DHHS; 1101 Wootton Parkway, Suite LL100 Tower Building; Rockville, MD 20852; Telephone: (240) 453-8280; Fax: (240) 453-8281. Secretary's Advisory Committee on National Health Promotion and Disease Prevention Objectives for 2030: Emmeline Ochiai, Designated Federal Officer or Carter Blakey, Alternate DFO; Office of Disease Prevention and Health Promotion, OASH/DHHS; 1101 Wootton Parkway; Suite LL 100 Tower Building; Rockville, MD 20852; Telephone: (240) 453-8280; Fax: (240) 453-8281. Additional information about the 2018 Physical Activity Guidelines Advisory Committee can be found at http://health.gov/paguidelines. Additional information about the Secretary's Advisory Committee on National Health Promotion and Disease Prevention Objectives can be found at https://www.healthypeople.gov.

SUPPLEMENTARY INFORMATION: On April 26, 2016, the Secretary approved for the Physical Activity Guidelines Advisory Committee and the Secretary's Advisory Committee on National Health Promotion and Disease Prevention Objectives to be re-established. Both committees have been re-established to accomplish single, time-limited tasks.

The Physical Activity Guidelines Advisory Committee was first established in February 2007 to assist the Department in development of the first edition of the Physical Activity Guidelines for Americans (PAG). The Department plans to develop a second edition of the PAG, and it was recommended that the same process be used to develop this document. The new committee will examine the current edition of the PAG, take into consideration new scientific evidence and current resource documents, and then develop a scientific advisory report that will be submitted to the Secretary. The title for the new committee is the 2018 Physical Activity Guidelines Advisory Committee (2018 PAGAC; the Committee).

Objectives and Scope of Activities. The 2018 PAGAC will provide independent advice and recommendations based on current scientific evidence for use by the federal government in the development of the second edition of the PAG. The PAG provides a foundation for federal recommendations and education for physical activity programs for Americans, including those at risk for chronic disease.

Description of Duties. The work of the 2018 PAGAC is solely advisory in nature. The Committee will be established for the single, time-limited task of reviewing the current edition of the PAG and conducting an evidence-based systematic literature review of physical activity and health for use in developing physical activity recommendations to promote health and reduce chronic disease risk.

Membership and Designation. The 2018 PAGAC will be composed of 11 to 17 members. One or more members will be selected to serve as the Chair, Vice Chair, and/or Co-Chairs. The Committee will consist of respected published experts in designated fields and specific specialty areas. Individuals appointed to serve on the Committee will have demonstrated expert knowledge of current science in the field of human physical activity and health promotion or the prevention of chronic disease. Members will be appointed to the Committee by the Secretary of HHS and invited to serve for the duration of the Committee. All appointed members of the Committee will be classified as special government employees (SGEs).

Administrative Management and Support. The 2018 PAGAC will provide advice to the Secretary of Health and Human Services, through the Assistant Secretary for Health (ASH). The Committee will provide a report to the Secretary, outlining their recommendations and rationale for the second edition of the PAG.

Management and support services for the Committee will be provided within the Office of the Assistant Secretary for Health (OASH) by the Office of Disease Prevention and Health Promotion (ODPHP). The ODPHP is a program staff office within OASH; OASH is a staff division in the HHS Office of the Secretary.

ODPHP will collaborate with the Centers for Disease Control and Prevention (CDC), the National Institutes of Health (NIH), and the OASH program staff office for the President's Council on Fitness, Sports, and Nutrition (PCFSN). The ASH will appoint seven Co-Executive Secretaries to support the Committee, two each from the ODPHP, CDC, and NIH, and one from the OASH staff office for the PCFSN. The two ODPHP Co-Executive Secretaries will be appointed to serve as the DFO and Alternate DFO for the Committee.

The Department established the Healthy People initiative in 1979. The initiative was established to develop a framework for improving the health of all people in the United States. Healthy People provides evidence-based, ten-year national objectives for improving the health of all Americans. Every 10 years, the Department issues a comprehensive set of national public health objectives. To assist with this task for the development of Healthy People 2020, the Department utilized a scientific advisory committee, the Secretary's Advisory Committee on National Health Promotion and Disease Prevention Objectives for 2020. It was recommended that the same process be used to assist with development of Healthy People 2030 because the Department must create a more focused set of ten-year national disease prevention and health promotion objectives that reflect the Nation's needs and carries stakeholder support. The title for the new committee is the Secretary's Advisory Committee on National Health Promotion and Disease Prevention Objectives for 2030 (the Committee).

Objectives and Scope of Activities. In 1979, HHS established the Healthy People initiative to develop a framework for improving the health of all people in the United States. Healthy People provides evidence-based, ten-year national objectives for improving the health of all Americans. Healthy People offers a strategic agenda to align health promotion and disease prevention activities in communities around the country. The Healthy People initiative is grounded in the principle that setting national objective and monitoring progress can motivate action.

The Committee will provide independent advice based on current scientific evidence for use by the Secretary of HHS or a designated representative in the development of Healthy People 2030. The Committee will advise the Secretary on the Department's approach for Healthy People 2030. Framed around health determinants and risk factors, this approach will generate a focused set of objective that address high-impact public health challenges.

Description of Duties. The work of the Committee is solely advisory in nature. The Committee will perform the single, time-limited task of providing advice regarding creating Healthy People 2030. The Committee's duties include providing advice about the Healthy People 2030 mission statement, vision statement, framework, and organizational structure.

Membership and Designation. The Committee will consist of no more than 13 members. One or more members will be selected to serve as the Chair, Vice Chair, and/or Co-Chairs. The Committee membership may include former Assistant Secretaries for Health and nationally known experts in areas such as biostatistics, business, epidemiology, health communications, health economics, health information technology, health policy, health sciences, health systems, international health, outcomes research, public health law, social determinants of health, special populations, and state and local health public health and from a variety of public, private, philanthropic, and academic settings.

Members will be appointed to the Committee by the Secretary of HHS or a designated representative and invited to serve for the duration of the Committee. All appointed members of the Committee will be classified as special government employees (SGEs).

Administrative Management and Support. The Committee will provide advice to the Secretary of HHS, through the Assistant Secretary for Health (ASH). The ASH will provide oversight for the Committee's function and activities. Management and support services for the Committee will be provided by the Office of Disease Prevention and Health Promotion (ODPHP). ODPHP is a program office within the Office of the Assistant Secretary for Health, which is a staff division in the HHS Office of the Secretary.

To comply with the provisions of FACA, the charters for the 2018 Physical Activity Guidelines Advisory Committee and the Secretary's Advisory Committee on National Health Promotion and Disease Prevention Objectives for 2030 will be filed with the appropriate Congressional committees and the Library of Congress fifteen calendar days after notice of this action being taken has been published in the Federal Register. After the charters have been filed, copies of these documents can be obtained from the ODPHP Web site under the appropriate program headings. Copies of the charters for the two designated committees also can be obtained by accessing the FACA database that is maintained by the Committee Management Secretariat under the General Services Administration. The Web site address for the FACA database is http://facadatabase.gov/.

Dated: May 3, 2016.
Karen B. DeSalvo,
Acting Assistant Secretary for Health.

[FR Doc. 2016-11235 Filed 5-11-16; 8:45 am]

BILLING CODE 4150-32-P